DEPARTMENT OF TRANSPORTATION

Federal Aviation Administration

14 CFR Part 93

[Docket No. FAA-2024-1669; Amdt. No. 93-104A]

RIN 2120-AM01

Valparaiso, Florida Terminal Area; Correction

AGENCY: Federal Aviation Administration (FAA), U.S. Department of Transportation (DOT).

ACTION: Final rule; correction.

SUMMARY: On June 24, 2024, the Federal Aviation Administration (FAA) published the subject final rule in the Federal Register. In that final rule, the FAA amended five boundary coordinates contained within the Valparaiso, Florida, terminal area to ensure that the published boundaries matched the actual relation to both the U.S. shoreline and overlying restricted airspace to maintain aeronautical chart accuracy and consistency but failed to amend a sixth point. This action corrects that error. Additionally, the FAA intended to make this final rule effective to align with the 56-day chart cycle. The original rule's effective date does not align with a chart cycle publication date, and this action corrects it to align with the October 31, 2024, chart cycle.

DATES: This correction is effective October 31, 2024.

FOR FURTHER INFORMATION CONTACT: Brian Konie, Airspace Rules & Regulations Manager (A), AJV-P21, Federal Aviation Administration, 800 Independence Avenue SW, Washington, DC 20591; telephone (202) 267-8783; email brian.konie@faa.gov.

SUPPLEMENTARY INFORMATION: On June 24, 2024, the Federal Aviation Administration (FAA) published the final rule, Valparaiso, Florida Terminal Area, in the Federal Register.¹

In the final rule, the FAA amended five points in § 93.81(b) as set out in the following table:

Location | Original points | New points
§ 93.81(b)(1) | lat. 30°22′47″ N, long. 86°51′30″ W lat. 30°23′46″ N, long. 86°38′15″ W lat. 30°20′51″ N, long. 86°38′50″ W lat. 30°19′31″ N, long. 86°51′30″ W | lat. 30°22′47″ N, long. 86°51′30″ W lat. 30°23′46″ N, long. 86°38′15″ W lat. 30°20′47″ N, long. 86°38′51″ W * lat. 30°19′45″ N, long. 86°51′30″ W *
§ 93.81(b)(2) | lat. 30°25′01″ N, long. 86°38′12″ W lat. 30°25′01″ N, long. 86°25′00″ W lat. 30°25′01″ N, long. 86°22′26″ W lat. 30°19′46″ N, long. 86°23′45″ W lat. 30°20′51″ N, long. 86°38′50″ W lat. 30°23′46″ N, long. 86°38′15″ W | lat. 30°25′01″ N, long. 86°38′12″ W lat. 30°25′01″ N, long. 86°25′00″ W lat. 30°25′01″ N, long. 86°22′26″ W lat. 30°19′41″ N, long. 86°23′46″ W ** lat. 30°20′47″ N, long. 86°38′51″ W * lat. 30°23′46″ N, long. 86°38′15″ W
§ 93.81(b)(3) | lat. 30°25′01″ N, long. 86°22′26″ W lat. 30°22′01″ N, long. 86°08′00″ W lat. 30°19′16″ N, long. 85°56′00″ W lat. 30°11′01″ N, long. 85°56′00″ W lat. 30°19′46″ N, long. 86°23′45″ W | lat. 30°25′01″ N, long. 86°22′26″ W lat. 30°22′01″ N, long. 86°08′00″ W lat. 30°19′16″ N, long. 85°56′00″ W lat. 30°11′08″ N, long. 85°56′00″ W * lat. 30°19′41″ N, long. 86°23′46″ W *
* Indicates the five points revised in the final rule.
** Indicates the sixth point revised in correction of the final rule.

¹ Valparaiso, Florida, Terminal Area final rule, 89 FR 52359 (Jun. 24, 2024).

While the FAA revised the five updated coordinates contained within the table (denoted with a single asterisk (*)), the FAA failed to revise a sixth point contained in § 93.81(b)(2). This document corrects that error. This sixth point (denoted by a double asterisk (**)), located at lat. 30°19′46″ N, long. 86°23′45″ W; is hereby amended to lat. 30°19′41″ N, long. 86°23′46″ W.

Further, the FAA made the final rule effective August 23, 2024, 60 days after publication. However, that effective date does not align with the FAA's charting cycle. Thus, the FAA is correcting the effective date to align with the charting cycle.

Corrections

In FR Doc. 2024-13737, published at 89 FR 52359 on June 24, 2024, the following corrections are made:

1. On page 52360, in the first column, the DATES section is corrected to read as follows:

DATES: Effective 0901 UTC, October 31, 2024.

2. On page 52362, in the second column, in instruction 2 for § 93.81, paragraph (b)(2) is corrected to read as follows:

§ 93.81 [Corrected]

* * * * *

(b) * * *

(2) The center section would include that airspace extending upward from the surface to but not including 18,000 feet MSL, bounded by a line beginning at: Latitude 30°25′01″ N, Longitude 86°38′12″ W; to Latitude 30°25′01″ N, Longitude 86°25′00″ W; to Latitude 30°25′01″ N, Longitude 86°22′26″ W; to Latitude 30°19′41″ N, Longitude 86°23′46″ W; then 3 NM from and parallel to the shoreline to Latitude 30°20′47″ N, Longitude 86°38′51″ W; to Latitude 30°23′46″ N, Longitude 86°38′15″ W; to the beginning.

* * * * *

Issued under authority provided by 49 U.S.C. 106(f) and 40103 in Washington, DC.
Brandon Roberts,
Executive Director, Office of Rulemaking.

[FR Doc. 2024-15034 Filed 7-10-24; 8:45 am]

BILLING CODE 4910-13-P